DEPARTMENT OF COMMERCE

National Oceanic and Atmospheric Administration

RIN 0648-XC280

Atlantic Highly Migratory Species; Atlantic Shark Management Measures; 2013 Research Fishery

AGENCY: National Marine Fisheries Service (NMFS), National Oceanic and Atmospheric Administration (NOAA), Commerce.

ACTION: Notice of intent; request for applications.

SUMMARY: NMFS announces its request for applications for the 2013 shark research fishery from commercial shark fishermen with directed or incidental shark limited access permits. The shark research fishery allows for the collection of fishery-dependent data for future stock assessments to meet the shark research objectives of the Agency. The only commercial vessels authorized to land sandbar sharks are those participating in the shark research fishery. Shark research fishery permittees may also land non-sandbar large coastal sharks (LCS), small coastal sharks (SCS), and pelagic sharks. Commercial shark fishermen who are interested in participating in the shark research fishery need to submit a completed Shark Research Fishery Permit Application in order to be considered.

DATES: Shark Research Fishery Applications must be received no later than 5 p.m., local time, on December 13, 2012.

ADDRESSES: Please submit completed applications to the HMS Management Division at:

• Mail: Attn: Delisse Ortiz, HMS Management Division (F/SF1), NMFS, 1315 East-West Highway, Silver Spring, MD 20910.

• Fax: (301) 427-8503

For copies of the Shark Research Fishery Permit Application, please write to the HMS Management Division at the address listed above, call (301) 427-8503 (phone), or fax a request to (301) 713-1917. Copies of the Shark Research Fishery Application are also available at the HMS Web site at http://www.nmfs.noaa.gov/sfa/hms/index.htm. Additionally, please be advised that your application may be released under the Freedom of Information Act.

FOR FURTHER INFORMATION CONTACT: Karyl Brewster-Geisz or Delisse Ortiz, at (301) 427-8503 (phone) or (301) 713-1917 (fax).

SUPPLEMENTARY INFORMATION: The Atlantic shark fisheries are managed under the authority of the Magnuson-Stevens Fishery Conservation and Management Act (Magnuson-Stevens Act). The Consolidated HMS Fishery Management Plan (FMP) is implemented by regulations at 50 CFR part 635.

The final rule for Amendment 2 to the Consolidated HMS FMP (Amendment 2) (73 FR 35778, June 24, 2008, corrected at 73 FR 40658, July 15, 2008) established, among other things, a shark research fishery to maintain time series data for stock assessments and to meet NMFS' research objectives. The shark research fishery also allows selected commercial fishermen the opportunity to earn revenue from selling additional sharks, including sandbar sharks. Only the commercial shark fishermen selected to participate in the shark research fishery are authorized to land sandbar sharks subject to the sandbar quota available each year. The selected shark research fishery permittees will also have access to the non-sandbar LCS, SCS, and pelagic shark quotas. Generally, the shark research fishery permits are valid only for the calendar year for which they are issued. Commercial fishermen not participating in the shark research fishery may land non-sandbar LCS, SCS, and pelagic sharks subject to retention limits and quotas per §§ 635.24 and 635.27, respectively.

As established in Amendment 2, since 2008, the base quotas for the sandbar and non-sandbar LCS research fisheries have been reduced to account for earlier overharvests in the non-sandbar LCS and sandbar shark fisheries. These 5-year quota reductions end on December 31, 2012. Given the end of the 5-year reduction period on December 31, 2012, and because the fishery did not exceed its quota in 2012 and thus no further reductions are required, in the 2013 shark specifications (77 FR 61562) the sandbar research fishery quota reverts to the initial base quota (i.e., prior to the overharvest deduction) of 116.6 mt dw and the 2013 non-sandbar LCS research fishery quota reverts to 50 mt dw.

The specific 2013 trip limits and number of trips per month will depend on the number of selected vessels, the availability of observers, the available quota, and the objectives of the research fishery and will be included in the permit terms at time of issuance. The trip limits and the number of trips taken per month have changed each year the research fishery has been active. Participants may also be limited on the amount of gear they can deploy on a given set (e.g., number of hooks and sets, soak times, length of longline). In 2012, we split the sandbar and non-sandbar LCS research fishery quotas equally among selected participants, with each vessel allocated 14 metric tons (mt) dressed weight (dw) of sandbar shark research fishery quota and 6 mt dw of non-sandbar large coastal shark research fishery quota. Participants were also required to keep any dead sharks, unless they were a prohibited species, in which case they were required to release them, and were restricted by the number of longline sets as well as the number of hooks they could deploy and have on board the vessel. The vessels participating in the shark research fishery fished an average of one trip per month.

In order to participate in the shark research fishery, commercial shark fishermen need to submit a completed Shark Research Fishery Application by the deadline noted above (see DATES) showing that the vessel and owner(s) meet the specific criteria outlined below.

Research Objectives

Each year, the research objectives are developed by a shark board, which is comprised of representatives within NMFS, including representatives from the Southeast Fisheries Science Center (SEFSC) Panama City Laboratory, Northeast Fisheries Science Center (NEFSC) Narragansett Laboratory, the Southeast Regional Office, Protected Species Division (SERO\PSD), and the HMS Management Division. The research objectives for 2013 are based on the 2008 Biological Opinion for Continued Authorization of Shark Fisheries in Amendment 2 to the Consolidated HMS FMP, the 2008 Southeast Data, Assessment and Review (SEDAR) 11, 2005/2006 LCS stock assessment and SEDAR 21, 2010/2011 U.S. South Atlantic blacknose, U.S Gulf of Mexico blacknose, sandbar, and dusky sharks stock assessment and SEDAR 29, 2012 U.S. Gulf of Mexico blacktip shark stock assessment. The 2013 research objectives are:

• Collect reproductive, length, sex, and age data from sandbar and other sharks throughout the calendar year for species-specific stock assessments;

• Monitor the size distribution of sandbar sharks and other species captured in the fishery;

• Continue on-going tagging shark programs for identification of migration corridors and stock structure using dart and/or spaghetti tags;

• Maintain time-series of abundance from previously derived indices for the shark BLL observer program;

• Acquire fin-clip samples of all shark and other species for genetic analysis;

• Attach satellite archival tags to endangered smalltooth sawfish to provide information on critical habitat and preferred depth, consistent with ESA requirements for such tagging under the SEFSC observer program take permit obtained through the 2008 Section 7 Consultation and Biological Opinion for the Continued Authorization of Shark Fisheries (Commercial Shark Bottom Longline, Commercial Shark Gillnet and Recreational Shark Handgear Fisheries) as Managed under the Consolidated Fishery Management Plan for Atlantic Tunas, Swordfish, and Sharks (Consolidated HMS FMP), including Amendment 2 to the Consolidated HMS FMP (F/SER/2007/05044);

• Attach satellite archival tags to prohibited dusky and other sharks, as needed, to provide information on daily and seasonal movement patterns, and preferred depth;

• Evaluate hooking mortality and post-release survivorship of dusky, hammerhead, blacktip, and other sharks using hook timers and temperature-depth recorders;

• Evaluate the effects of controlled gear experiments in order to determine the effects of potential hook changes to prohibited species interactions and fishery yields; and

• Examine the size distribution of sandbar and other sharks captured in the Mid-Atlantic shark time/area closure off the coast of North Carolina from January 1 through July 31.

Selection Criteria

Shark Research Fishery Permit Applications will be accepted only from commercial shark fishermen who hold a current directed or incidental shark limited access permit. While incidental permit holders are welcome to submit an application, to ensure that an appropriate number of sharks are landed to meet the research objectives for this year, we will give priority to directed permit holders as recommended by the shark board. As such, qualified incidental permit holders will be selected only if there are not enough qualified directed permit holders to meet research objectives.

The Shark Research Fishery Permit Application includes, but is not limited to, a request for the following information: type of commercial shark permit possessed; past participation in the commercial shark fishery (not including sharks caught for display); past involvement and compliance with HMS observer programs per § 635.7; past compliance with HMS regulations at 50 CFR part 635; availability to participate in the shark research fishery; ability to fish in the regions and season requested; ability to attend necessary meetings regarding the objectives and research protocols of the shark research fishery; and ability to carry out the research objectives of the Agency. An applicant who has been charged criminally or civilly (e.g., issued a Notice of Violation and Assessment (NOVA) or Notice of Permit Sanction) for any HMS-related violation will not be considered for participation in the shark research fishery. In addition, applicants who were selected to carry an observer in the previous 2 years for any HMS fishery, but failed to contact NMFS to arrange the placement of an observer as required per § 635.7, will not be considered for participation in the 2013 shark research fishery. Applicants who were selected to carry an observer in the previous 2 years for any HMS fishery and failed to comply with all the observer regulations per § 635.7 will also not be considered. Exceptions will be made for vessels that were selected for HMS observer coverage but did not fish in the quarter when selected and thus did not require an observer. Applicants who do not possess a valid USCG safety inspection decal when the application is submitted will not be considered. Applicants who have been non-compliant with any of the HMS observer program regulations in the previous 2 years, as described above, may be eligible for future participation in shark research fishery activities by demonstrating 2 subsequent years of compliance with observer regulations at § 635.7.

Selection Process

The HMS Management Division will review all submitted applications and develop a list of qualified applicants from those applications that are deemed complete. A qualified applicant is an applicant that has submitted a complete application by the deadline (see DATES) and has met the selection criteria listed above. Qualified applicants are eligible to be selected to participate in the shark research fishery for 2013. The HMS Management Division will provide the list of qualified applicants without identificating information to the SEFSC. The SEFSC will then evaluate the list of qualified applicants and, based on the temporal and spatial needs of the research objectives, the availability of observers, the availability of qualified applicants, and the available quota for a given year, will randomly select approximately 10 qualified applicants to conduct the prescribed research. Where there are multiple qualified applicants that meet the criteria, permittees will be randomly selected through a lottery system. If a public meeting is deemed necessary, NMFS will announce details of a public selection meeting in a subsequent Federal Register notice.

Once the selection process is complete, we will notify the selected applicants and issue the shark research fishery permits. The shark research fishery permits will be valid only in calendar year 2013. If needed, we will communicate with the shark research fishery permit holders to arrange a captain's meeting to discuss the research objectives and protocols. The shark research fishery permit holders must contact the NMFS observer coordinator to arrange the placement of a NMFS-approved observer for each shark research trip.

A shark research fishery permit will only be valid for the vessel and owner(s) and terms and conditions listed on the permit, and, thus, cannot be transferred to another vessel or owner(s). Issuance of a shark research permit does not guarantee that the permit holder will be assigned a NMFS-approved observer on any particular trip. Rather, issuance indicates that a vessel may be issued a NMFS-approved observer for a particular trip, and on such trips, may be allowed to harvest Atlantic sharks, including sandbar sharks, in excess of the retention limits described in § 635.24(a). These retention limits will be based on available quota, number of vessels participating in the 2013 shark research fishery, the research objectives set forth by the shark board, the extent of other restrictions placed on the vessel, and may vary by vessel and/or location. When not operating under the auspices of the shark research fishery, the vessel would still be able to land non-sandbar LCS, SCS, and pelagic sharks subject to existing retention limits on trips without a NMFS-approved observer. The shark research permit may be revoked or modified at any time and does not confer the right to engage in activities beyond those listed on the shark research fishery permit.

NMFS annually invites commercial shark permit holders (directed and incidental) to submit an application to participate in the shark research fishery. Permit applications can be found on the HMS Management Division's Web site at http://www.nmfs.noaa.gov/sfa/hms/index.htm or by calling (301) 427-8503. Final decisions on the issuance of a shark research fishery permit will depend on the submission of all required information by the deadline (see DATES), and NMFS' review of applicant information as outlined above. The 2013 shark research fishery will start after the opening of the shark fishery and under available quotas as published in a separate Federal Register final rule.

Dated: November 7, 2012.
Lindsay Fullenkamp,
Acting Deputy Director, Office of Sustainable Fisheries, National Marine Fisheries Service.

[FR Doc. 2012-27542 Filed 11-9-12; 8:45 am]

BILLING CODE 3510-22-P